DEPARTMENT OF THE INTERIOR

National Park Service

National Register of Historic Places; Weekly Listing of Historic Properties

Pursuant to (36CFR60.13(b,c)) and (36CFR63.5), this notice, through publication of the information included herein, is to appraise the public as well as governmental agencies, associations and all other organizations and individuals interested in historic preservation, of the properties added to, or determined eligible for listing in, the National Register of Historic Places from October 20 to October 24, 2008.

For further information, please contact Edson Beall via: United States Postal Service mail, at the National Register of Historic Places, 2280, National Park Service, 1849 C St. NW., Washington, DC 20240; in person (by appointment), 1201 Eye St., NW., 8th floor, Washington DC 20005; by fax, 202-371-2229; by phone, 202-354-2255; or by e-mail, Edson_Beall@nps.gov.

Dated: November 17, 2008.
J. Paul Loether,
Chief, National Register of Historic Places/ National Historic Landmarks Program.

KEY: State, County, Property Name, Address/Boundary, City, Vicinity, Reference Number, NHL, Action, Date, Multiple Name

ALABAMA

Elmore County

First Baptist Church of Wetumpka, 205 West Bridge St., Wetumpka, 06001101, LISTED, 10/24/08

ARKANSAS

Johnson County

Hill, Taylor, Hotel, 409 Alabama St., Coal Hill, 08001007, LISTED, 10/21/08

COLORADO

La Plata County

Denver and Rio Grande Western Railroad Locomotive No. 315, 479 Main Ave., Durango, 08001008, LISTED, 10/24/08

COLORADO

Rio Grande County

Spruce Lodge, 29431 W. U.S. Hwy. 160, South Fork, 08001009, LISTED, 10/21/08

MARYLAND

Washington County

Tolson's Chapel, 111 E. High St., Sharpsburg, 08001012, LISTED, 10/21/08

MARYLAND

Worcester County

St. Paul's by-the-sea Protestant Episcopal Church, 302 N. Baltimore St., Ocean City, 08001013, LISTED, 10/22/08

MISSOURI

Jasper County

Inter-State Grocer Company Building,

1027-1035 S. Main St., Joplin, 08001024, LISTED, 10/24/08 (Historic Resources of Joplin, Missouri)

MONTANA

Flathead County

Wheeler Camp (Boundary Increase and Additional Documentation), North end of Lake McDonald, Glacier National Park, Apgar vicinity, 08001015, LISTED, 10/24/08 (Glacier National Park MRA (AD))

NORTH CAROLINA

Wake County

Purefoy-Chappell House and Outbuildings, 1255 S. Main St., Wake Forest, 08001016, LISTED, 10/22/08 (Wake County MPS)

VIRGINIA

Arlington County

Aurora Highlands Historic District, Bounded by 16th St. S., S. Eads St., 26th St. S., and S. Joyce St., Arlington, 08001018, LISTED, 10/22/08 (Historic Residential Suburbs in the United States, 1830-1960 MPS)

[FR Doc. E8-28063 Filed 11-25-08; 8:45 am]

BILLING CODE 4310-70-P